DEPARTMENT OF TRANSPORTATION

Federal Highway Administration

[FHWA Docket No. FHWA-2016-0024]

Project Management Plan Guidance

AGENCY: Federal Highway Administration (FHWA), DOT.

ACTION: Notice.

SUMMARY: This notice announces and outlines the purpose and contents of Project Management Plans, when they are required, and the preferred form and procedure for submission of these Plans to FHWA. The Guidance clarifies prior Guidance, including when to prepare plan updates.

DATES: This Guidance is effective on May 22, 2017.

ADDRESSES: To ensure that you do not duplicate your docket submissions, please submit all comments by only one of the following means:

• Federal eRulemaking Portal: Go to http://www.regulations.gov and follow the online instructions for submitting comments.

• Mail: Docket Management Facility, U.S. Department of Transportation, 1200 New Jersey Ave. SE., W12-140, Washington, DC 20590-0001.

• Hand Delivery: West Building Ground Floor, Room W12-140, 1200 New Jersey Ave. SE., between 9 a.m. and 5 p.m., Monday through Friday, except Federal holidays. The telephone number is (202) 366-9329.

• Instructions: You must include the agency name and docket number at the beginning of your comments. All comments received will be posted without change to http://www.regulations.gov, including any personal information provided.

FOR FURTHER INFORMATION CONTACT: For questions about this notice contact Ms. LaToya Johnson, FHWA Office of Infrastructure, (202) 366-0479, Federal Highway Administration, 1200 New Jersey Ave. SE., Washington, DC 20590, or via email at latoya.johnson@dot.gov. For legal questions, please contact Mr. Jomar Maldonado, FHWA Office of the Chief Counsel, (202) 366-1373, Federal Highway Administration, 1200 New Jersey Ave. SE., Washington, DC 20590-0001, or via email at jomar.maldonado@dot.gov. Business hours for the FHWA are from 8:00 a.m. to 4:30 p.m., e.t., Monday through Friday, except Federal holidays.

SUPPLEMENTARY INFORMATION:

Electronic Access and Filing

A copy of the Project Management Plan Guidance is available for download and public inspection under the docket number noted above at the Federal eRulemaking portal at: http://www.regulations.gov. You may submit or retrieve comments online through the Federal eRulemaking portal at: http://www.regulations.gov. The Web site is available 24 hours each day, 365 days each year. Electronic submission and retrieval help and guidelines are available under the help section of the Web site.

An electronic copy of this document may also be downloaded from Office of the Federal Register's home page at: http://www.archives.gov/federal_register and the Government Publishing Office's Web page at: https://www.gpo.gov/fdsys/. Late comments will be considered to the extent practicable.

Background

Major projects are defined in 23 U.S.C. 106(h) as projects receiving Federal financial assistance with an estimated total cost of $500,000,000, or other projects as may be identified by the Secretary. Major projects are typically large, complex projects designed to address major highway needs and require the investment of significant financial resources. The preparation of a Project Management Plan, as required by 23 U.S.C. 106(h), ensures successful project delivery and the maintenance of public trust, support, and confidence throughout the life of the project. The Plans clearly define the responsibilities of the agency leadership and management team. Further, such plans document the procedures and processes to provide timely information to project decisionmakers.

The Project Management Plan Guidance replaces the existing January 2009 guidance. Current guidance is over 7 years old and in need of clarification. This new guidance is less prescriptive, in light of an increased understanding of Project Management Plans by FHWA and Project Managers. Further, a recent DOT Office of Inspector General audit expressed the need for more clarity in the guidance on when to prepare Project Management Plan updates.¹ Finally, while current guidance includes best practices for managing major projects, these practices are not included in the new guidance. Rather, best management practices will be developed as a separate resource to be shared with project sponsors and FHWA staff.

¹ FHWA Met Basic Requirements but can Strengthen Guidance and Controls for Financial and Project Management Plans, FHWA, Report No. ST-2015-018 (Jan. 2015), available at https://www.oig.dot.gov/library-item/32336.

A copy of the Project Management Plan Guidance is available for download and public inspection under the docket number noted above at the Federal eRulemaking portal at: http://www.regulations.gov.

Authority: 23 U.S.C. 106(h); 49 CFR 1.85.

Dated: May 15, 2017.
Walter C. Waidelich, Jr.,
Acting Deputy Administrator, Federal Highway Administration.

[FR Doc. 2017-10262 Filed 5-19-17; 8:45 am]

BILLING CODE 4910-22-P